DEPARTMENT OF ENERGY

Federal Energy Regulatory Commission

[Docket No. EG04-23-000, et al.]

Sweetwater Wind Power L.L.C., et al.; Electric Rate and Corporate Filings

December 23, 2003.

The following filings have been made with the Commission. The filings are listed in ascending order within each docket classification.

1. Sweetwater Wind Power L.L.C.

[Docket No. EG04-23-000]

On December 16, 2003, Sweetwater Wind Power L.L.C. (SWWP), a Texas limited liability company with its principal place of business in Houston, Texas, filed with the Federal Energy Regulatory Commission an application for determination of exempt wholesale generator status pursuant to part 365 of the Commission's regulations.

SWWP states it intends to construct, own and operate a 37.5-MW wind powered generation facility located near Sweetwater, Nolan County, Texas (the Facility). SWWP further states that when completed, the electric energy produced by the Facility will be sold into the wholesale power market of the Electric Reliability Council of Texas and the Facility is expected to begin commercial operation by December 31, 2003.

Comment Date: January 6, 2004.

2. Tenaska Power Services Co., Complainant, v. The Midwest Independent Transmission System Operator, Inc., Respondent

[Docket No. EL04-43-000]

Take notice that on December 23, 2003, Tenaska Power Services Co. (TPS) submitted a complaint against the Midwest Independent Transmission System Operator, Inc. (MISO) requesting fast track processing by the Commission. TPS alleges that MISO has violated its OATT and Commission precedent and policy by improperly processing rollover requests out of the proper order. TPS states that a copy of the complaint was served on MISO and on Cargill Power Markets, LLC on December 23, 2003, via facsimile.

Comment Date: January 12, 2004.

3. Southern California Edison Company, on Behalf of Mountainview Power Company, LLC

[Docket No. ER04-316-000]

Take notice that on December 19, 2003, Southern California Edison Company (SCE), on behalf of Mountainview Power Company, LLC (MVL) (together, Applicants) filed a Power Purchase Agreement (PPA) between MVL and SCE. Applicants seek approval of the PPA no later than February 23, 2004.

Comment Date: January 9, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E3-00664 Filed 12-31-03; 8:45 am]

BILLING CODE 6717-01-P